DEPARTMENT OF ENERGY

Federal Energy Regulatory Commission

Combined Notice of Filings #1

Take notice that the Commission received the following electric corporate filings:

Docket Numbers: EC14-69-000.

Applicants: Alpaugh North, LLC, Alpaugh 50, LLC, CED White River Solar, LLC.

Description: Application for Authorization Under Section 203 of the Federal Power Act and Request for Waivers, Expedited Action and Shortened Comment Period of Alpaugh North, LLC, et al.

Filed Date: 3/20/14.

Accession Number: 20140320-5142.

Comments Due: 5 p.m. ET 4/10/14.

Take notice that the Commission received the following exempt wholesale generator filings:

Docket Numbers: EG14-33-000.

Applicants: Campo Verde Solar, LLC.

Description: Self-Certification of EG of Campo Verde Solar, LLC.

Filed Date: 3/24/14.

Accession Number: 20140324-5003.

Comments Due: 5 p.m. ET 4/14/14.

Take notice that the Commission received the following electric rate filings:

Docket Numbers: ER13-607-003.

Applicants: Potomac Electric Power Company, Delmarva Power & Light Company, PJM Interconnection, L.L.C.

Description: Pepco & DPL submit compliance filing per 2/28/2014. Settlement Order in ER13-607 to be effective 3/1/2013.

Filed Date: 3/20/14.

Accession Number: 20140320-5118.

Comments Due: 5 p.m. ET 4/10/14.

Docket Numbers: ER14-1552-000.

Applicants: Southern California Edison Company.

Description: EDM Letter Agreement with Riverside Public Utilities Department to be effective 2/27/2014.

Filed Date: 3/21/14.

Accession Number: 20140321-5145.

Comments Due: 5 p.m. ET 4/11/14.

Docket Numbers: ER14-1553-000.

Applicants: PJM Interconnection, L.L.C.

Description: First Revised Service Agreement No. 3159—Queue W2-073 to be effective 2/21/2014.

Filed Date: 3/21/14.

Accession Number: 20140321-5170.

Comments Due: 5 p.m. ET 4/11/14.

Docket Numbers: ER14-1554-000.

Applicants: Southern California Edison Company.

Description: Notices of Cancellation with Several Interconnection Customers for EKWRA Project to be effective 12/15/2013.

Filed Date: 3/24/14.

Accession Number: 20140324-5005.

Comments Due: 5 p.m. ET 4/14/14.

Docket Numbers: ER14-1555-000.

Applicants: Southern California Edison Company.

Description: Amended & Restated IID-Edison Mirage 220 kV Interconnection Agreement to be effective 2/20/2014.

Filed Date: 3/24/14.

Accession Number: 20140324-5006.

Comments Due: 5 p.m. ET 4/14/14.

Docket Numbers: ER14-1556-000.

Applicants: Commonwealth Edison Company.

Description: Request for Construction Work In Progress and Abandonment Incentives of Commonwealth Edison Company.

Filed Date: 3/21/14.

Accession Number: 20140321-5183.

Comments Due: 5 p.m. ET 4/11/14.

Docket Numbers: ER14-1557-000.

Applicants: PacifiCorp.

Description: Termination of IPA Mona Relay Replacement Agreement to be effective 6/8/2014.

Filed Date: 3/24/14.

Accession Number: 20140324-5080.

Comments Due: 5 p.m. ET 4/14/14.

Docket Numbers: ER14-1558-000.

Applicants: PJM Interconnection, L.L.C.

Description: Original Service Agreement No. 3772; Queue No. Y2-088 to be effective 2/20/2014.

Filed Date: 3/24/14.

Accession Number: 20140324-5086.

Comments Due: 5 p.m. ET 4/14/14.

Docket Numbers: ER14-1559-000.

Applicants: PJM Interconnection, L.L.C.

Description: PJM submits Original Service Agreement No. 3792; Queue No. Z1-050 to be effective 2/21/2014.

Filed Date: 3/24/14.

Accession Number: 20140324-5103.

Comments Due: 5 p.m. ET 4/14/14.

Docket Numbers: ER14-1560-000.

Applicants: Southern California Edison Company.

Description: CLGIA and Distrib Service Agmt with Tulare 1, LLC, Tulare 2, LLC, Tulare 3, LLC to be effective 3/25/2014.

Filed Date: 3/24/14.

Accession Number: 20140324-5110.

Comments Due: 5 p.m. ET 4/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2014.
Nathaniel J. Davis, Sr.,
Deputy Secretary.

[FR Doc. 2014-07089 Filed 3-28-14; 8:45 am]

BILLING CODE 6717-01-P